DEPARTMENT OF HEALTH AND HUMAN SERVICES

National Institutes of Health

National Institute of Mental Health; Amended Notice of Meeting

Notice is hereby given of a change in the meeting of the National Institute of Mental Health Special Emphasis Panel, October 13, 2004, 9 a.m. to October 13, 2004, 5 p.m., Holiday Inn Select Bethesda, 8120 Wisconsin Ave., Bethesda, MD 20814 which was published in the Federal Register on September 27, 2004, 69 FR 57709.

The meeting will now be held on October 19, 2004, from 9 a.m. to 5 p.m. at the Holiday Inn Select Bethesda. The meeting is closed to the public.

Dated: October 4, 2004.
LaVerne Y. Stringfield,
Director, Office of Federal Advisory Committee Policy.

[FR Doc. 04-22660 Filed 10-7-04; 8:45 am]

BILLING CODE 4140-01-M